SMALL BUSINESS ADMINISTRATION

Data Collection Available for Public Comments.

ACTION: 60-Day notice and request for comments.

SUMMARY: The Small Business Administration (SBA) intends to request approval from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before February 27, 2026.

ADDRESSES: Send all comments to the Office of Communications and Public Liaison, Office of Strategic Alliances, Kelly LoTempio, Program Analyst, kelly.lotempio@sba.gov, 409 3rd Street SW, Washington, DC 20416, Small Business Administration.

FOR FURTHER INFORMATION CONTACT: Office of Communications and Public Liaison, Office of Strategic Alliances, Kelly LoTempio, Program Analyst, kelly.lotempio@sba.gov or (716) 551-3249. and Shauniece Carter, Interim Agency Clearance Officer, Shauniece.carter@sba.gov, (202) 935-6942.

SUPPLEMENTARY INFORMATION: Small business owners or advocates who have been nominated for an SBA recognition award submit this information for use in evaluating nominee's eligibility for an award: Verifying accuracy of information submitted and determining whether there are any actual or potential conflicts of interest. Awards are presented to winners during the Presidentially declared Small Business Week.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: PRA 3245-0360.

Title: U.S. Small Business Administration Award Nominations.

Description of Respondents: Nominated Small Business Owners.

Form Number: 3300-3315/2025 Nomination Guidelines.

Total Estimated Annual Responses: 600.

Total Estimated Annual Hour Burden: 1200.

Shauniece Carter,
Interim Agency Clearance Officer.

[FR Doc. 2025-23877 Filed 12-23-25; 8:45 am]

BILLING CODE 8026-09-P